DEPARTMENT OF EDUCATION

Applications for New Awards; Out of School Time Career Pathway Program; Correction

AGENCY: Office of Elementary and Secondary Education, Department of Education.

ACTION: Notice; correction.

SUMMARY: On June 22, 2020, the Office of Elementary and Secondary Education published in the Federal Register a notice inviting applications (NIA) for new awards for fiscal year (FY) 2020 for the Out-of-School Time Career Pathway Program, Catalog of Federal Domestic Assistance (CFDA) number 84.287D. We are correcting the information regarding the Grants.gov registration requirements. All other information in the NIA, including the September 21, 2020, deadline for transmittal of applications, remains the same.

DATES: This correction is applicable July 27, 2020.

FOR FURTHER INFORMATION CONTACT: Erin Shackel, U.S. Department of Education, 400 Maryland Avenue SW, Room 111, LBJ, Washington, DC 20202. Telephone: (202) 453-6423. Email: 21stCCLCcompetition@ed.gov.

If you use a telecommunications device for the deaf (TDD) or a text telephone (TTY), call the Federal Relay Service (FRS), toll free, at 1-800-877-8339.

SUPPLEMENTARY INFORMATION: On June 22, 2020, we published in the Federal Register an NIA for new awards for FY 2020 for the Out-of-School Time Career Pathway Program (85 FR 37438). In the NIA, we indicated that Grants.gov had relaxed the requirement for applicants to have an active registration in the System for Award Management (SAM) in order to apply for funding during the COVID-19 pandemic. This flexibility ended the business day before this notice published. Therefore, an applicant must have an active SAM registration in order to submit an application.

All other information in the NIA, including the September 21, 2020, deadline for transmittal of applications, remains the same. Instructions for submitting an application can be found in the NIA.

Correction

In FR Doc. 2020-13304 appearing on page 37438 in the Federal Register of June 22, 2020, the following correction is made:

1. On page 37441, in the third column, replace the second paragraph under the heading “1. Application Submission Instructions: ”with the following:

An applicant must use Grants.gov to apply and Grants.gov requires applicants to have an active registration in the System for Award Management (SAM) in order to apply for funding. An applicant that does not have an active SAM registration can register with Grants.gov. With questions, please contact the Grants.gov Support Desk, toll-free, at 1-800-518-4726. Note: Once your SAM.gov registration is active, it may be 24 to 48 hours before you can access the information in, and submit an application through, Grants.gov.

Program Authority: Title IV, part B of the Elementary and Secondary Education Act of 1965, as amended, section 4202(a)(2), 20 U.S.C. 7172(a)(2).

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at this site.

You may also access documents of the Department published in the Federal Register by using the article search feature at www.federalregister.gov. Specifically, through the advanced search feature at this site, you can limit your search to documents published by the Department.

Frank T. Brogan,
Assistant Secretary for Elementary and Secondary Education.

[FR Doc. 2020-16140 Filed 7-24-20; 8:45 am]

BILLING CODE 4000-01-P